NUCLEAR REGULATORY COMMISSION

[Docket No. 030-36574]

Notice of Availability of Environmental Assessment and Finding of No Significant Impact for License Amendment for the Department of the Army's Facility at Fort Belvoir, VA

AGENCY: Nuclear Regulatory Commission.

ACTION: Notice of availability.

FOR FURTHER INFORMATION CONTACT: Tom McLaughlin, Project Manager, Decommissioning Directorate, Division of Waste Management and Environmental Protection, Office of Nuclear Material Safety and Safeguards, U.S. Nuclear Regulatory Commission, Washington, DC 20555-0001; Telephone: (301) 415-5869; fax number: (301) 415-5398; e-mail: tgm@nrc.gov.

SUPPLEMENTARY INFORMATION:

I. Introduction

The NRC is considering issuance of a license amendment to the Department of the Army (Army or licensee) for License No. 19-10306-02, to authorize decommissioning for its facility at Fort Belvoir, Virginia. NRC has prepared an Environmental Assessment (EA) in support of this action in accordance with the requirements of 10 CFR part 51. Based on the EA, the NRC has concluded that a Finding of No Significant Impact (FONSI) is appropriate.

II. EA Summary

The purpose of this proposed amendment to License No. 19-10306-02 is to authorize the decommissioning of the licensee's Building 7304 at Fort Belvoir, Virginia, for unrestricted use to allow for license termination. The Army was authorized by the NRC on March 31, 1989, to use radioactive materials for research purposes at the site. On May 17, 2004, the Army requested that NRC approve the decommissioning plan for the facility which when completed would permit the site to be released for unrestricted use. Final approval for release of the site for unrestricted use and license termination would be contingent upon NRC staff's approval of the licensee's final status survey report and making the findings required by the Commission's regulations following completion of the licensee's decommissioning activities. The Army's request for the proposed amendment was previously noticed in the Federal Register on December 28, 2004 (69 FR 77779), with a notice of an opportunity to request a hearing. No comments or request for a hearing were received.

Following a Characterization Survey, the Army found that there are elevated levels of radioactivity on the floor of Building 7304, in the soil beneath the floor, in the wall storage vaults, and in the floor vaults. These elevated levels indicate the need for the removal of the Building 7304 structure and any soil that is above the soil screening criteria, then transport of the contaminated waste to an authorized disposal facility. The NRC staff determined that all steps in the proposed decommissioning could be accomplished in compliance with the NRC public and occupational dose limits, effluent release limits, and residual radioactive material limits. In addition, the staff concluded that approval of the decommissioning of Building 7304 at Fort Belvoir, Virginia, in accordance with the commitments in NRC License No. 19-10306-02 and the final decommissioning plan, would not result in a significant adverse impact on the environment.

If the NRC approves the license amendment, the authorization will be documented in an amendment to NRC License No. 19-10306-02. However, before approving the proposed amendment, the NRC will need to make the findings required by the Atomic Energy Act of 1954, as amended, and NRC's regulations. These findings will be documented in a Safety Evaluation Report in addition to the EA.

III. Finding of No Significant Impact

The staff has prepared the EA (summarized above) in support of the Army's proposed decommissioning. The NRC staff has concluded that there will be no adverse environmental impacts associated with approving the Army's license amendment request for decommissioning Building 7304. The radiological environmental impacts from the proposed amendment are bounded by the impacts evaluated by NUREG-1496, Volumes 1-3, “Generic Environmental Impact Statement in Support of Rulemaking on Radiological Criteria for License Termination of NRC-Licensed Facilities” (ML042310492, ML042320379, and ML042330385). The staff has also found that the non-radiological impacts are not significant. On the basis of the EA, the NRC has concluded that the environmental impacts from the action are expected to be insignificant and has determined that an environmental impact statement does not need to be prepared for the action.

IV. Further Information

Documents related to this action, including the application for amendment and supporting documentation, are available electronically at the NRC's Electronic Reading Room at http://www.nrc.gov/reading-rm/adams.html. From this site, you can access the NRC's Agency-wide Document Access and Management System (ADAMS), which provides text and image files of NRC's public documents. The ADAMS accession number for the documents related to this notice are: The Army's package to NRC dated May 17, 2004, ML041490071; EA prepared for this action, ML050810012; and Federal Register Notice for Amendment No. 2, ML050960044. If you do not have access to ADAMS or if there are problems in accessing the documents located in ADAMS, contact the NRC Public Document Room (PDR) Reference staff at 1-800-397-4209, 301-415-4737, or by e-mail to pdr@nrc.gov.

Any questions should be referred to Thomas McLaughlin, Division of Waste Management and Environmental Protection, U.S. Nuclear Regulatory Commission, Washington DC 20555, Mailstop T-7E18, telephone (301) 415-5869, fax (301) 415-5397.

Dated in Rockville, Maryland, this 21st day of June, 2005.
For the Nuclear Regulatory Commission.
Daniel M. Gillen,
Deputy Director, Decommissioning Directorate, Division of Waste Management and Environmental Protection, Office of Nuclear Material Safety and Safeguards.

[FR Doc. E5-3321 Filed 6-24-05; 8:45 am]

BILLING CODE 7590-01-P